NATIONAL SCIENCE FOUNDATION

Agency Information Collection Activities: Comment Request; Account Management Profile

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Copies of the submission may be obtained by calling 703-292-7556. NSF may not conduct or sponsor a collection of information unless the collection of information displays a currently valid OMB control number, and the agency informs potential persons who are to respond to the collection of information that such persons are not required to respond to the collection of information unless it displays a currently valid OMB control number.

SUPPLEMENTARY INFORMATION:

Title of Collection: Account Management Profile.

OMB Control No.: 3145-NEW.

Type of Request: Intent to seek approval to establish an information collection for three years.

Abstract: The purpose of the National Science Foundation's (NSF) Account Profile is to collect information (contact information, demographic information, and academic/professional information) on Research.gov. This profile will assist the NSF in maintaining a centralized registration and profile management process for individuals. NSF may track information provided over time to review and evaluate NSF programs, facilitate proposal submission, simplify reviewer activities, and provide data for the selection and management of reviewers and related merit review functions. Collecting this information supports the program officers across each directorate by improving efficiencies for internal staff, leveraging consolidated profile data, and creating a seamless user experience for the scientific community. This process will also provide researchers with a consolidated profile and access to their information in the Research.gov system, with the ability to easily access and update their information as necessary over the course of their respective research career and in all official interactions with NSF, as applicant, awardee (Fellow, Principal Investigator (PI), co-PI, subawardee, consultant), institutional representative, reviewer, or in other roles. In addition, the Biden Administration has made it a priority to deliver services more equitably and effectively via Executive Order 14058, Transforming Federal Customer Experience and Service Delivery to Rebuild Trust in Government. The President directed heads of agencies to integrate activities to improve customer experience and identify means by which their respective agencies can improve transparency and accessibility for their customers. This expansion effort will allow users, including those with a Principal Investigator role, a Reviewer role, or those applying to the Graduate Research Fellowship Program (GRFP), or those designated as current Fellow with GRFP, to self-report and self-manage demographic and academic/professional information over the course of their respective research careers.

Use of the Information: Information collected as part of the NSF Account Profile (contact information, demographic information, and academic/professional information) on Research.gov will enable program officials to select diverse panels and expand opportunities to increase participation from underrepresented groups and diverse institutions throughout the United States in all NSF activities and programs. The information provided over time will also be used by administrative support professionals to review and evaluate NSF programs, facilitate proposal submission, simplify reviewer activities, and provide data for the selection and management of reviewers and related merit review functions. This information will provide NSF with the necessary data to create dashboards across business applications that allow users to easily access and update their data over time and enable administrators to report on efforts to broaden participation. Additionally, the information collected as part of the NSF Account profile will align with the precedent set by the Department of State with the option to select a third gender marker for non-binary, intersex, and gender non-conforming individuals. This additional gender response option is based on the two-part qualitative study coordinated between the Department of State and the Centers for Disease Control and Prevention. The results concluded that “unspecified or another gender identity” is the most appropriate definition. “Unspecified” is also the International Civil Aviation Organization's (ICAO) standard for third gender markers, aligning efforts with that of the international community, public commenters, and all U.S. citizens regardless of their gender identity.

Expected Respondents: Researchers and administrative support professionals, including those with a Principal Investigator role, a Reviewer role, or those applying to the Graduate Research Fellowship Program (GRFP), or those designated as current Fellow with GRFP.

Estimated Number of Annual Respondents: 587,776.

Burden on the Public: It should be noted that burden estimates associated with the NSF Account Profile amount to 5 minutes to fill out the contact information, demographic information, and academic/professional information, including the collection of data to fill in the fields. This assumption includes users who have filled out information in the past and do not wish to update their information. The demographic information should be readily available as the selection fields are available on Research.gov today and the professional information can be gathered from external data sources. The estimated number of annual respondents considers all users in Research.gov, regardless of role and demographic information completion status, all unique reviewers for NSF, all current GRFP Fellows, and the estimated annual number of GRFP applicants. The estimated burden time is 48,981 hours.

Dated: September 19, 2022.
Suzanne H. Plimpton,
Reports Clearance Officer, National Science Foundation.

[FR Doc. 2022-20522 Filed 9-21-22; 8:45 am]

BILLING CODE 7555-01-P